Title 3—

The President

Proclamation 8424 of September 28, 2009

Family Day, 2009

By the President of the United States of America

A Proclamation

Our family provides one of the strongest influences on our lives. American families from every walk of life have taught us time and again that children raised in loving, caring homes have the ability to reject negative behaviors and reach their highest potential. Whether children are raised by two parents, a single parent, grandparents, a same-sex couple, or a guardian, families encourage us to do our best and enable us to accomplish great things. Today, our children are confronting issues of drug and alcohol use with astonishing regularity. On Family Day, we honor the dedication of parents, commend the achievements of their children, and celebrate the contributions our Nation's families have made to combat substance abuse among young people.

The 21st century presents families with unprecedented challenges. Millions of women and men are struggling to balance the demands of their jobs with the needs of their families. At the same time, our youngest generation faces countless distractions in their social environment. They are coming of age in a world where electronic devices have replaced the playground, televisions have preempted conversation, and pressure to use drug and alcohol is far too prevalent. Parents bear significant stress and burdens to protect their children from harmful influences.

It is our responsibility to talk with adolescents about the risks of abusing alcohol, tobacco, or prescription and illicit drugs, and other harmful behaviors. These substances can destroy the mind, body, and spirit of a child, jeopardizing their health and limiting their potential. Active parents, voicing their disapproval of drug use, have proven themselves to be the most effective preventative method for keeping our children drug-free. A strong and engaged family can make all the difference in helping young people make healthy decisions.

By coming together as a family and discussing the events of the day, parents can foster open communication, share joys and concerns, and help guide their children toward healthy decisionmaking. A strong nation is made up of strong families, and on this Family Day, we rededicate ourselves to ensuring that every American family has the chance to build a better, healthier future for themselves and their children.

NOW, THEREFORE, I, BARACK OBAMA, President of the United States of America, by virtue of the authority vested in me by the Constitution and the laws of the United States, do hereby proclaim September 28, 2009, as Family Day. I call upon the people of the United States to join together in observing this day with appropriate ceremonies and activities to honor and strengthen our Nation's families.

IN WITNESS WHEREOF, I have hereunto set my hand this twenty-eighth day of September, in the year of our Lord two thousand nine, and of the Independence of the United States of America the two hundred and thirty-fourth.

[FR Doc. E9-23773

Filed 9-30-09; 8:45 am]

Billing code 3195-W9-P